DEPARTMENT OF DEFENSE

Department of the Air Force

[Docket ID: USAF-2016-HQ-0005]

Proposed Collection; Comment Request

AGENCY: Air Force Equal Opportunity (AF/EO) Program, DoD.

ACTION: Notice.

SUMMARY: In compliance with the Paperwork Reduction Act of 1995, the Department of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 27, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Air Force Equal Opportunity Office (AF/EO), ATTN: Mr. James H. Carlock Jr., 1500 West Perimeter Road, Suite 4500, Joint Base Andrews Air Force Base, Maryland 20762, or call at 240-612-4113.

SUPPLEMENTARY INFORMATION:

Title; Associated Form; and OMB Number: AF EO IT Systems—Entellitrack and iComplaints; AF FORM 1271, Equal Opportunity Record of Assistance/Contact; AF FORM 1587, Military Equal Opportunity Formal Complaint Summary; AF FORM 1587-1, Military Equal Opportunity Informal Complaint Summary; OMB Control Number 0701-XXXX.

Needs and Uses: The information collection requirement is necessary to counsel, process, investigate and adjudicate complaints of unlawful discrimination brought by contractors, retirees, and dependents. The information is used to investigate and resolve complaints of unlawful discrimination and sexual harassment under the AF Equal Opportunity Program, and to maintain records created as a result of the filing of allegations and appeals involving unlawful discrimination because of race, color, religion, sex, national origin, age, physical/mental disability, or genetic information, reprisal for participating in the EEO process or opposing discriminatory practices.

Affected Public: Individuals or households.

Annual Burden Hours: 1060.

Number of Respondents: 530.

Responses per Respondent: 1.

Annual Responses: 530.

Average Burden per Response: 2 hours.

Frequency: On occasion.

Respondents are contractors, retirees, AF applicants for employment, former AF employees, and family members of military and civilian employees who provide a variety of personal information to a certified EO Specialist/Counselor/Advisor. The information is then utilized for case management, recordkeeping, tracking, quarterly and annual statistical reporting. The information is requested once the respondent contacts (via phone, email, office, mail correspondence) the EO office and then is transferred into the AF EO IT System for further processing. All information provided becomes a part of the respondent's case file. Generally, the information is collected once; however, on occasion, the same respondent may file multiple complaints. Although the information requested is voluntary, not providing the information may delay case processing or cause case file not to be processed at all. Additionally, these records and/or information in these records may be used to report records as required by the FY 98 National Defense Authorization Act, and utilized as a data source for descriptive statistics; to provide information to a congressional office from the record of an individual in response to an inquiry from that congressional office made at the request of that individual; or for disclosure to an authorized formal complaints auditor, administrative judge, equal employment opportunity investigator, arbitrator or other authorized official(s) involved in the investigation or settlement of a formal complaint or appeal.

Dated: July 26, 2016.
Aaron Siegel,
Alternate OSD Federal Register, Liaison Officer, Department of Defense.

[FR Doc. 2016-18008 Filed 7-28-16; 8:45 am]

BILLING CODE 5001-06-P